DEPARTMENT OF COMMERCE

International Trade Administration

Advisory Committee on Supply Chain Competitiveness: Notice of Public Meeting

AGENCY: U.S. Department of Commerce.

ACTION: Notice of open meeting.

SUMMARY: This notice sets forth the schedule and proposed topics of discussion for a public meeting of the Advisory Committee on Supply Chain Competitiveness (Committee).

DATES: This conference call meeting will be held on Wednesday, March 8, 2017, from 11:00 a.m. to 12:00 p.m. Eastern Daylight Time. The deadline for members of the public to register to participate in or listen to the meeting is 5:00 p.m., Friday, March 3, 2017.

Call in Information: The meeting will be held by conference call with webinar capabilities. The Web site, call-in number and passcode will be provided by email to registrants. Requests to register and any written comments should be submitted to: Richard Boll and John Miller, Office of Supply Chain, Professional & Business Services, International Trade Administration by email: john.miller@trade.gov and richard.boll@trade.gov. Members of the public are encouraged to submit registration requests and written comments via email to ensure timely receipt.

FOR FURTHER INFORMATION CONTACT: John Miller and Richard Boll, Office of Supply Chain, Professional & Business Services, International Trade Administration by email: john.miller@trade.gov and richard.boll@trade.gov or phone 202-482-1316 and 202-482-1135.

SUPPLEMENTARY INFORMATION: The Committee was established under the discretionary authority of the Secretary of Commerce and in accordance with the Federal Advisory Committee Act (5 U.S.C. App. 2). It provides advice to the Secretary of Commerce on the necessary elements of a comprehensive policy approach to supply chain competitiveness designed to support U.S. export growth and national economic competitiveness, encourage innovation, facilitate the movement of goods, and improve the competitiveness of U.S. supply chains for goods and services in the domestic and global economy; and provides advice to the Secretary on regulatory policies and programs and investment priorities that affect the competitiveness of U.S. supply chains. For more information about the Committee visit: http://trade.gov/td/services/oscpb/supplychain/acscc/.

Matters to be Considered: Committee members are expected to deliberate and vote on a Committee letter outlining its priority recommendations for this Administration and a Committee letter outlining its recommendations for NAFTA negotiations. These letters will highlight the important issues that the Committee recommends that the Secretary of Commerce, in coordination with the Administration, address to improve the competitiveness of U.S. supply chains, facilitate new job growth within the United States, and increase U.S. exports. The Office of Supply Chain, Professional & Business Services will post the draft recommendations and the final agenda on the Committee Web site (http://trade.gov/td/services/oscpb/supplychain/acscc/) at least one week prior to the meeting. Please provide any comments on the draft recommendations to: John Miller and Richard Boll, Office of Supply Chain, Professional & Business Services, International Trade Administration by email: john.miller@trade.gov and richard.boll@trade.gov at least five days prior to the conference call, in order to ensure adequate time to distribute the comments for Committee review. The conference call will be open to the public for comments on a first-come, first-served basis, with up to thirty minutes available for public comments. Access lines are limited. The minutes of the meetings will be posted on the Committee Web site within 60 days of the meeting.

Dated: February 8, 2017.
Maureen Smith,
Director, OSCPBS.

[FR Doc. 2017-02905 Filed 2-13-17; 8:45 am]

BILLING CODE 3510-DR-P